DEPARTMENT OF COMMERCE

National Oceanic and Atmospheric Administration

RIN 0648-XV041

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team will meet September 16, 2019 through September 20, 2019.

DATES: The meetings will be held on Monday, September 16, 2019, from 1 p.m. to 4 p.m.; and Tuesday, September 17, 2019 through Thursday, September 19, 2019, from 9 a.m. to 5 p.m.; and Friday, September 20, 2019, from 9 a.m. to 12:30 p.m., Pacific Standard Time.

ADDRESSES: The meetings will be held at the Alaska Fishery Science Center in the Traynor Room 2076, 7600 Sand Point Way NE, Building 4, Seattle, WA 98115.

Council address: North Pacific Fishery Management Council, 605 W 4th Ave., Suite 306, Anchorage, AK 99501-2252; telephone: (907) 271-2809.

FOR FURTHER INFORMATION CONTACT: Jim Armstrong, Council staff; telephone: (907) 271-2809.

SUPPLEMENTARY INFORMATION:

Agenda

Monday, September 16, 2019

The Crab Plan Team will meet with the BSAI and GOA Groundfish Plan Teams to review and discuss issues of importance to all three Plan Teams, including but not limited to the Plan Team Handbook, ESP/Prioritization, PEEC workshop report, Social Science Plan Team report, Bering Sea FEP, ESR Climate Overview, and VAST.

The Agenda is subject to change, and the latest version will be posted at https://meetings.npfmc.org/Meeting/Details/844 prior to the meeting, along with meeting materials.

Tuesday, September 17, 2019 Through Friday, September 20, 2019

The Crab Plan Team will review the final stock assessments for Bristol Bay red king crab, snow crab, St Matthew blue king crab, Tanner crab, and Pribilof Islands red king crab. Additionally, the Crab Plan Team will discuss survey results, fishery performance, St Matthew blue king crab rebuilding, snow and Tanner crab biology, and plans for their upcoming January 2020 meeting.

The Agenda is subject to change, and the latest version will be posted at https://meetings.npfmc.org/Meeting/Details/845 prior to the meeting, along with meeting materials.

Public Comment

Public comment letters will be accepted and should be submitted electronically to https://meetings.npfmc.org/Meeting/Details/845 or through the mail: North Pacific Fishery Management Council, 605 W 4th Ave., Suite 306, Anchorage, AK 99501-2252. In-person oral public testimony will be accepted at the discretion of the chairs.

Special Accommodations

These meetings are physically accessible to people with disabilities. Requests for sign language interpretation or other auxiliary aids should be directed to Shannon Gleason at (907) 271-2809 at least 7 working days prior to the meeting date.

Authority: 16 U.S.C. 1801 et seq.

Dated: August 22, 2019.
Tracey L. Thompson,
Acting Deputy Director, Office of Sustainable Fisheries, National Marine Fisheries Service.

[FR Doc. 2019-18463 Filed 8-26-19; 8:45 am]

BILLING CODE 3510-22-P